DEPARTMENT OF LABOR

Employment and Training Administration

[TA-W-52,138]

Agere Systems, Inc., Optoelectronics Division, Formerly Lucent Technologies, Inc., Microelectronics Business, Breinigsville, PA; Notice of Termination of Investigation

Pursuant to section 221 of the Trade Act of 1974, as amended, an investigation was initiated on June 25, 2003 in response to a petition filed on behalf of workers at Agere Systems, Inc., formerly Lucent Technologies, Inc., Microelectronics business, Breinigsville, Pennsylvania.

The petitioning group of workers is covered by an active certification issued on July 18, 2003 and which remains in effect (TA-W-50,366). Consequently, further investigation in this case would serve no purpose, and the investigation has been terminated.

Signed at Washington, DC this 25th day of July, 2003.
Linda G. Poole,
Certifying Officer, Division of Trade Adjustment Assistance.

[FR Doc. 03-19869 Filed 8-4-03; 8:45 am]

BILLING CODE 4510-30-P